DEPARTMENT OF THE INTERIOR

Bureau of Land Management

[CA-350-1060-JJ]

Notice of Public Meetings on the Use of Helicopters and Motorized Vehicles in Wild Horse and Burro Gather Operations

AGENCY: Bureau of Land Management, Interior; Eagle Lake Field Office, Susanville, California.

ACTION: Notice of public meetings on the use of helicopters and motorized vehicles in wild horse and burro gather operations.

SUMMARY: In accordance with 43 CFR 4740.1(b), two public meetings will be held to discuss the use of helicopters and other motorized vehicles during wild horse and burro gathering operations on public lands managed by the Bureau of Land Management's Surprise, Eagle Lake, and Alturas Field Offices.

SUPPLEMENTARY INFORMATION: The meetings will be conducted on Monday, April 15, 2002, at the Bureau of Land Management's Eagle Lake Field Office, 2950 Riverside Drive, Susanville, California, and on Tuesday, April 15, 2002, at the Bureau of Land Management's Surprise Field Office, 602 Cressler Street, Cedarville, California. Both meetings will begin at 7 p.m. The use of helicopters and other motorized equipment in conducting wild horse and burro gathers during calendar year 2002 will be discussed and the public will be given the opportunity to submit oral or written comments during the meeting.

FOR FURTHER INFORMATION: Contact Linda Hansen, Eagle Lake Field Manager, at (530) 257-5381 0456, or Rob Jeffers, Wild Horse and Burro Specialist, Surprise Field Office, at (530) 279-6101.

Linda D. Hansen,
Field Manager.

[FR Doc. 02-1378 Filed 1-17-02; 8:45 am]

BILLING CODE 4310-40-P